DEPARTMENT OF HEALTH AND HUMAN SERVICES

Health Resources and Services Administration

Health Center Program

AGENCY: Health Resources and Services Administration (HRSA), Department of Health and Human Services.

ACTION: Announcement of Supplemental Award.

SUMMARY: HRSA provided supplemental grant funds to a currently funded National Training and Technical Assistance Cooperative Agreement (NCA) award recipient to coordinate and provide training and technical assistance (T/TA) to health centers that serve migrant and seasonal agricultural workers (MSAW) and their families through three regional forums.

SUPPLEMENTARY INFORMATION:

Recipient of the Award: The National Center for Farmworker Health, Inc.

Amount of Non-Competitive Awards: $150,000.

Period of Supplemental Funding: Fiscal years 2018 and 2019 (contingent upon available funding and satisfactory performance).

CFDA Number: 93.129.

Authority: Section 330(l) of the Public Health Service Act, as amended.

JUSTIFICATION: The award recipient will lead the coordination and management of three regional Migrant Stream Forums to provide T/TA addressing the critical health needs of MSAW in alignment with HRSA priorities. T/TA provided at the Migrant Stream Forums is targeted to a broad range of health center staff positions, and covers diverse topics that address the needs of migrant health centers and the patients they serve. Supplemental funds are necessary to support their timely and successful implementation.

This supplemental funding will augment the current NCA investment for these T/TA opportunities through support of enhanced personnel presence, the availability of continuing education unit-bearing educational sessions to meet the diverse needs of multidisciplinary health center staff, and speaker and participant stipends that underscore the unique value these in-person regional T/TA sessions provide.

FOR FURTHER INFORMATION CONTACT: Tracey Orloff, Strategic Partnerships Division Director in the Bureau of Primary Health Care, Office of Quality Improvement, at TOrloff@hrsa.gov.

Dated: October 26, 2018.
George Sigounas,
Administrator.

[FR Doc. 2018-24008 Filed 11-1-18; 8:45 am]

BILLING CODE 4165-15-P